DEPARTMENT OF HEALTH AND HUMAN SERVICES

Food and Drug Administration

[Docket No. FDA-2013-D-1143]

Use of Nucleic Acid Tests To Reduce the Risk of Transmission of West Nile Virus From Living Donors of Human Cells, Tissues, and Cellular and Tissue-Based Products; Guidance for Industry; Correction

AGENCY: Food and Drug Administration, HHS.

ACTION: Notice of availability; correction.

SUMMARY: The Food and Drug Administration (FDA or Agency) is correcting a notice that appeared in the Federal Register of Tuesday, September 13, 2016 (81 FR 62910). The document announced the availability of a guidance for industry entitled “Use of Nucleic Acid Tests to Reduce the Risk of Transmission of West Nile Virus from Living Donors of Human Cells, Tissues, and Cellular and Tissue-Based Products (HCT/Ps). The document was published with incorrect information of a comment period due date. This document corrects that error.

FOR FURTHER INFORMATION CONTACT: Jonathan McKnight, Center for Biologics Evaluation and Research, Food and Drug Administration, 10903 New Hampshire Ave., Bldg. 71, Rm. 7301, Silver Spring, MD 20993-0002, 240-402-7911.

SUPPLEMENTARY INFORMATION: In the Federal Register of September 13, 2016, in FR Doc. 2016-21969, on page 62910, the following correction is made:

On page 62910, in the first column under the DATES: caption, the sentence is corrected to read, “Submit either electronic or written comments on Agency guidances at any time.”

Dated: September 23, 2016.
Leslie Kux,
Associate Commissioner for Policy.

[FR Doc. 2016-23514 Filed 9-28-16; 8:45 am]

BILLING CODE 4164-01-P